DEPARTMENT OF AGRICULTURE

Animal and Plant Health Inspection Service

[Docket No. 03-026-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the plant pest, noxious weed, and garbage regulations.

DATES: We will consider all comments that we receive on or before May 9, 2003.

ADDRESSES: You may submit comments by postal mail/commercial delivery or by e-mail. If you use postal mail/commercial delivery, please send four copies of your comment (an original and three copies) to: Docket No. 03-026-1, Regulatory Analysis and Development, PPD, APHIS, Station 3C71, 4700 River Road Unit 118, Riverdale, MD 20737-1238. Please state that your comment refers to Docket No. 03-026-1. If you use e-mail, address your comment to regulations@aphis.usda.gov. Your comment must be contained in the body of your message; do not send attached files. Please include your name and address in your message and “Docket No. 03-026-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the plant pest, noxious weed, and garbage regulations, contact Ms. Deborah Knott, Chief, Permit Branch, PPQ, APHIS, 4700 River Road Unit 133, Riverdale, MD 20737; (301) 734-5055. For copies of more detailed information on the information collection, contact Mrs. Celeste Sickles, APHIS” Information Collection Coordinator, at (301) 734-7477.

SUPPLEMENTARY INFORMATION: Title: Plant Pest, Noxious Weed, and Garbage Regulations.

OMB Number: 0579-0054.

Type of Request: Extension of approval of an information collection.

Abstract: The Plant Protection and Quarantine (PPQ) program of the Animal and Plant Health Inspection Service (APHIS), U. S. Department of Agriculture, is responsible for preventing plant pests and noxious weeds from entering the United States, preventing the spread of pests and weeds not widely distributed in the United States, and eradicating those introduced pests and weeds when eradication is feasible. PPQ is also responsible for preventing plant and animal diseases and pests from entering the United States in waste material derived from, or associated with, fruits, vegetables, meats, or other plant or animal matter commonly referred to as garbage.

The introduction and establishment of new plant and animal pests and diseases or noxious weeds in the United States could cause multimillion dollar losses to U.S. agriculture.

To prevent this from happening, we engage in a number of information collection activities under 7 CFR parts 330 and 360, and 9 CFR part 94, § 94.5, that are designed to allow us to determine whether shipments of regulated articles (such as certain plants and soil) present a possible risk of introducing plant pests or noxious weeds into the United States.

Our primary means of obtaining this vital information is by requiring individuals to apply to us for a permit to import regulated articles or to move these articles interstate. The permit application contains such information as the nature and amount of items to be imported or moved interstate, the country or locality of origin, the intended destination, and the intended port of entry in the United States.

Such data enable us to evaluate the risks associated with the proposed importation or interstate movement of plant pests, noxious weeds, and soil and to develop risk-mitigating conditions, if necessary, for the proposed importation or interstate movement.

We also require the owners or operators of certain garbage-handling facilities to apply to us for a permit so that they can be approved to process regulated garbage in such a way that it no longer poses a threat of disseminating plant pests or livestock and poultry diseases within the United States. We also employ compliance agreements in our programs to help ensure that garbage handlers and others use appropriate mitigation measures. These information gathering procedures enable us to detect and intercept shipments that pose a potential risk to U.S. agriculture.

We are asking the Office of Management and Budget (OMB) to approve our use of these information collection activities for an additional 3 years.

The purpose of this notice is to solicit comments from the public (as well as affected agencies) concerning our information collection. These comments will help us:

(1) Evaluate whether the proposed collection of information is necessary for the proper performance of the functions of the Agency, including whether the information will have practical utility;

(2) Evaluate the accuracy of our estimate of the burden of the proposed collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.808961 hours per response.

Respondents: Importers and shippers of plant pests, noxious weeds, and other regulated articles; State plant health authorities; owners/operators of regulated garbage-handling facilities.

Estimated annual number of respondents: 39,962.

Estimated annual number of responses per respondent: 1.16435.

Estimated annual number of responses: 46,530.

Estimated total annual burden on respondents: 37,641 hours. (Due to averaging, the total annual burden hours may not equal the product of the annual number of responses multiplied by the reporting burden per response.)

All responses to this notice will be summarized and included in the request for OMB approval. All comments will also become a matter of public record.

Done in Washington, DC, this 5th day of March 2003.
Peter Fernandez,
Acting Administrator, Animal and Plant Health Inspection Service.

[FR Doc. 03-5597 Filed 3-7-03; 8:45 am]

BILLING CODE 3410-34-P